DEPARTMENT OF COMMERCE

International Trade Administration

Caribbean Trade Mission

AGENCY: International Trade Administration, Department of Commerce.

ACTION: Notice.

Mission Description

The Commerce Department's International Trade Administration (ITA) and the U.S. Commercial Service (USCS) post in Santo Domingo—Dominican Republic, will organize a matchmaking trade mission in June 2010.

The matchmaking trade mission will include representatives from a variety of U.S. manufacturing companies and service providers. These mission participants will be introduced to international agents, distributors and end-users whose capabilities are targeted to each U.S. participants' needs in that particular market. Mission participants will also meet with key local industry contacts that can advise on local market conditions and opportunities. In addition to the above-mentioned services, the U.S. Commercial Service industry specialist will be on hand to discuss market trends and opportunities in the Dominican Republic and Jamaica.

Commercial Setting

The Caribbean is more than just a vacation destination; it is also a steadily growing market full of business opportunities for U.S. companies. The Caribbean Region is a natural commercial partner of the United States, tied closely together by geography, history, and culture. The region as a whole represents a market of about 41 million people who collectively imported over $20.3 billion of U.S. goods in 2008! As a result, the Caribbean Region is the 3rd largest export market for U.S. manufactured goods in Latin America behind only Mexico and Brazil. The United States enjoys a cooperative trading relationship with the region. Agreements such as The Caribbean Basin Initiative (CBI)—launched in 1983 and renewed in 2000 through legislation enacted by Congress established trade programs to facilitate the economic development and export diversification of the Caribbean Basin economies. U.S. exports to the CBI countries have more than tripled since the CBI's creation, from $6.5 billion in 1984 to over $25 billion in 2000.

Additionally, on August 5, 2004, the United States and the Dominican Republic signed a Free Trade Agreement (CAFTA-DR). The agreement was implemented on March 1, 2007, allowing more than 80% of U.S. manufactured goods enter duty free to the DR. In addition to tariff reduction, CAFTA-DR also provides unprecedented access to government procurement, liberalizes the services sectors, protects U.S. investments, and strengthens protections for U.S. patents, trademarks, and trade secrets in the DR. The U.S. has a 60% market share of Dominican imports. The Dominican Republic is the 7th largest market in the Western Hemisphere for U.S. exports after Canada, Mexico, Brazil, Venezuela, Colombia, and Chile. The United States is also Jamaica's primary trading partner with 40.1% of imports coming from the United States in 2008. Jamaica's GDP is US$12.7 billion, with 20% from tourism and 20% from remittances from Europe and North America. There is a trend of significant investment in the hotel and tourism sector. New highways, increased energy production and port modernization will likely lead to higher GDP growth. Additional development is expected with a new provision in 2008 to allow 3 casinos on the island.

Jamaica's JLP-led government, elected in 2007 on a platform of pro-business and good governance is championing the elimination of corruption, tax reform, and reducing red tape for business. Proximity, quality, and the use of the same language have encouraged Jamaican business people to purchase from the United States.

Companies that intend to export goods and services in Building Products; Hotel & Restaurant Equipment; Medical Equipment & Supplies; Automotive Parts & Accessories; and Renewable Energy possess great potential for success. Other companies will be considered as well based on their market potential in both countries.

Mission Goals

The goal of the Caribbean Trade Mission is to facilitate an effective presence for small and medium sized companies to export to companies in the Dominican Republic and Jamaica. The mission will enable U.S. companies to familiarize themselves with these important markets, to conduct market research, and to explore export opportunities through pre-arranged meetings with potential partners. The companies will be able to network with Government and Industry professionals, providing them with an enhanced image and level of engagement. Knowledgeable Commercial Service Specialists who are familiar with the firms' objectives will support the mission participants.

Mission Scenario

ITA Trade Specialists will promote the Trade Mission. This promotion will take place nation-wide and will largely be handled by the ITA Southern Network Hub. Companies interested in the mission will apply to the program, and once accepted (see `Criteria for Participant Selection') will work with the mission leader(s) to develop their business goals in the Dominican Republic and Jamaica.

U.S. Export Assistance Center trade specialists and particularly members of the Southern Network Hub will recruit and counsel prospective participants for the trade mission. Company information and literature will be forwarded by the companies to CS Santo Domingo and its affiliates in Jamaica. The two offices will then begin the partner search, and will provide management and logistical coordination of the program.

The mission leader(s) will use email and conference calls to communicate with U.S. participants prior to the mission. Mission leader(s) will be available for information and assistance throughout the duration of the mission. Prior to the end of the program, CS staff will advise and counsel participants on appropriate follow-up procedures.

In summary, participation in the Trade Mission includes:

• Economic/Business briefing in both countries;

• Transportation from airport to hotel in both countries;

• Pre-scheduled meetings with potential partners, distributors, and/or end users as well as with local industry contacts;

• Participation in mission reception at the Ambassadors' residences in both countries;

• U.S. Embassy rates at local hotels in both countries;

• Conference calls with U.S. Embassy staff to review your specific goals/objectives.

Proposed Mission Timetable
Day of week | Date | Activity
Sunday | June 13, Santo Domingo | Arrive in Santo Domingo No-host dinner.
Monday | June 14, Santo Domingo | Business Breakfast Briefing. One-on-One Business Meetings. Luncheon organized by the American Chamber. Evening Welcome Reception.
Tuesday | June 15 | One-on-One Business Meetings. Follow-up meetings or site visits.
Wednesday | June 16 | Travel to and arrival in Kingston, Jamaica.
Thursday | June 17 | Business Breakfast Briefing. One-on-One Business Meetings. Luncheon organized by the American Chamber. Evening Welcome Reception.
Friday | June 18 | One-on-One Business Meetings. Follow-up meetings or site visits.
Saturday | June 19 | Check out hotel. Return to the United States.

Participation Requirements

All persons interested in participating in the Caribbean Trade Mission to the Dominican Republic and Jamaica must complete and submit an application package for consideration by the Department of Commerce. All applicants will be evaluated on their ability to meet certain conditions and best satisfy the selection criteria as outlined below. Target recruitment for the Trade Mission is between 12 and 15 companies.

Fees and Expenses:

Two Stops | SME Company¹ | $3,250
Two Stops | Large Company | 3,800
One Stop | SME Company | 1,950
One Stop | Large Company | 2,250
Participation fee for each additional company representative |  | 500
¹ An SME is defined as a firm with 500 or fewer employees or that otherwise qualifies as a small business under SBA regulations (see http://www.sba.gov/services/contracting_opportunities/sizestandardstopics/index.html). Parent companies, affiliates, and subsidiaries will be considered when determining business size. The dual pricing schedule reflects the Commercial Service's user fee schedule that became effective May 1, 2008 (for additional information see http://www.export.gov/newsletter/march2008/initiatives.html).

Expenses for travel, lodging, most meals, and incidentals will be the responsibility of each mission participant.

Conditions for Participation:

An applicant must submit a completed and signed mission application and supplemental application materials, including adequate information on the company's products and/or services, primary market objectives, and goals for participation. If the U.S. Department of Commerce receives an incomplete application, the Department may reject the application, request additional information, or take the lack of information into account when evaluating the applications.

A company's products or services must be either produced in the United States or, if not, marketed under the name of a U.S. firm and have at least 51% U.S. content of the value of the finished product/service.

Selection Criteria for Participation:

Each applicant to the program will be screened for the following:

• Relevance of the company's business line to the mission's goals.

• Timeliness of company's signed application and participation agreement including fees.

• Timely and adequate provision of company and product/service information and literature, in order to enable communication of company's objectives and scheduling of business appointments.

• Provision of adequate information on company's products and/or services, and company's primary market objectives, in order to facilitate appropriate matching with potential business partners.

Referrals from political organizations and any documents containing references to partisan political activities (including political contributions) will be removed from an applicant's submission and not considered during the selection process.

Timeframe For Recruitment And Applications

Mission recruitment will be conducted in an open and public manner on a first come first serve basis, including publication in the Federal Register, posting on the Commerce Department trade missions calendar— http://www.ita.doc.gov/doctm/tmcal.html—and other Internet websites, publication in domestic trade publications and association newsletters, mailings from internal mailing lists, win-faxes to internal database of clients, email to sector distribution lists, through posting in the Federal Register, and at industry meetings, symposia, conferences, trade shows, etc. The Trade Mission will also be promoted by USCS and by team members in U.S. Export Assistance Centers.

Recruitment for the mission is to begin immediately and conclude no later than March 19, 2010. The U.S. Department of Commerce will review all applications immediately after the deadline. We will inform applicants of selection decisions as soon as possible after March 19, 2010. Applications received after that date will be considered only if space and scheduling constraints permit.

Contacts:

Southern Network Hub:

Lesa Forbes, Miami U.S. Export Assistance Center, 5835 Blue Lagoon Drive, Suite 203, Miami, FL 33126, Tel: (305) 526-7425 ext 28, Fax: (305) 526-7434, E-mail: Lesa.Forbes@mail.doc.gov;

Ashley Wilson, Oklahoma U.S. Export Assistance Center, 301 N.W. 63rd Street, Suite 330, Oklahoma City, OK 73116, Tel: (405) 608-5302, Fax: (405) 608-4211, E-mail: Ashley.Wilson@mail.doc.gov;

U.S. Commercial Service in Santo Domingo:

Robert O. Jones, Regional Senior Commercial Officer, Megan Schildgen, Commercial Officer, Maria Elena Portorreal, Senior Commercial Specialist, American Embassy, Ave. Pedro Henriquez Ureña No. 133, Edificio Empresarial Reyna l, 5th floor, La Esperilla, Santo Domingo, Dominican Republic, Tel.: 1 809-227-2121, Fax: 1 809-920-0267, E-mail: Robert.O.Jones@mail.doc.gov, Megan.Schildgen@mail.doc.gov, Maria.Elenaportorreal@mail.doc.gov.

Sean Timmins,
Global Trade Programs, Commercial Service Trade Missions Program.

[FR Doc. 2010-4347 Filed 3-2-10; 8:45 am]

BILLING CODE P